DEPARTMENT OF LABOR

Office of the Secretary

Submission for OMB Review: Comment Request

May 13, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Occupational Safety and Health Administration (OSHA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Design of Cave-in Protection Systems.

OMB Control Number: 1218-0137.

Agency Form Number: None.

Affected Public: Private sector—business or other for-profit.

Estimated Number of Respondents: 10,000.

Estimated Total Annual Burden Hours: 20,022.

Estimated Total Annual Costs Burden: $815,400.

Description: Design of cave-in protection systems are needed by employers in the construction industry and OSHA compliance officers to ensure that cave-in protection systems are designed, installed, and used in a manner to protect employees adequately. See 29 CFR 1926.552. For additional information, see related notice published at 73 FR 8374 on February 13, 2008.

Agency: Occupational Safety and Health Administration.

Type of Review: Extension without change of a previously approved collection.

Title of Collection: Subpart R Steel Erection (29 CFR 1926.750 through 1926.761).

OMB Control Number: 1218-0241.

Agency Form Number: None.

Affected Public: Private sector—business or other for-profit.

Estimated Number of Respondents: 20,787.

Estimated Total Annual Burden Hours: 30,339.

Estimated Total Annual Costs Burden: $0.

Description: 29 CFR Subpart R requires that employees exposed to fall hazards receive specified training in the recognition and control of fall hazards and that employees are notified that building materials, components, steel structures, and fall protection equipment are safe for specific uses. For additional information, see related notice published at 73 FR 8712 on February 14, 2008.

Darrin A. King,
Acting Departmental Clearance Office.

[FR Doc. E8-11126 Filed 5-16-08; 8:45 am]

BILLING CODE 4510-26-P